DEPARTMENT OF ENERGY

Federal Energy Regulatory Commission

Combined Notice of Filings #2

September 30, 2015.

Take notice that the Commission received the following electric rate filings:

Docket Numbers: ER13-1195-000.

Applicants: Entergy Services, Inc.

Description: Entergy Arkansas, Inc. submits tariff filing per 35.19a(b): Refund Report to be effective N/A.

Filed Date: 9/30/15.

Accession Number: 20150930-5191.

Comments Due: 5 p.m. ET 10/21/15.

Docket Numbers: ER15-1498-001.

Applicants: New York Independent System Operator, Inc.

Description: Compliance filing: Compliance tariff revision—Competitive Entry Exemption Class Years to be effective 2/26/2015.

Filed Date: 9/30/15.

Accession Number: 20150930-5076.

Comments Due: 5 p.m. ET 10/21/15.

Docket Numbers: ER15-2746-000.

Applicants: NorthWestern Corporation.

Description: Section 205(d) Rate Filing: Revised Point-to-Point TSAs with Langford (SA 32-SD) and Bryant (SA 33-SD) to be effective 10/1/2015.

Filed Date: 9/30/15.

Accession Number: 20150930-5155.

Comments Due: 5 p.m. ET 10/21/15.

Docket Numbers: ER15-2747-000.

Applicants: ISO New England Inc. New England Power Company, Public Service Company of New Hampshire.

Description: Section 205(d) Rate Filing: Granite Ridge Energy, LLC—LGIA-ISONE/NEP/EES-15-01 to be effective 8/31/2015.

Filed Date: 9/30/15.

Accession Number: 20150930-5162.

Comments Due: 5 p.m. ET 10/21/15.

Docket Numbers: ER15-2748-000.

Applicants: Fair Wind Power Partners, LLC.

Description: Baseline eTariff Filing: Fair Wind Power Partners LLC Certificate of Concurrence Filing to be effective 9/30/2015.

Filed Date: 9/30/15.

Accession Number: 20150930-5164.

Comments Due: 5 p.m. ET 10/21/15.

Docket Numbers: ER15-2749-000.

Applicants: PacifiCorp.

Description: Notice of Termination of City of Redding Long Term Power Sales and Exchange Agreement RS 425 of PacifiCorp.

Filed Date: 9/30/15.

Accession Number: 20150930-5180.

Comments Due: 5 p.m. ET 10/21/15.

Docket Numbers: ER15-2750-000.

Applicants: Galt Power Inc. Galt Power Inc. Galt Power, Inc.

Description: Request of Galt Power, Inc. for Limited Tariff Waiver.

Filed Date: 9/30/15.

Accession Number: 20150930-5195.

Comments Due: 5 p.m. ET 10/21/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 30, 2015.
Nathaniel J. Davis, Sr.,
Deputy Secretary.

[FR Doc. 2015-25512 Filed 10-6-15; 8:45 am]

BILLING CODE 6717-01-P